NATIONAL SCIENCE FOUNDATION

Notice of Permit Applications Received Under the Antarctic Conservation Act of 1978 (Pub. L. 95-541)

AGENCY: National Science Foundation.

ACTION: Notice of permit applications received under the Antarctic Conservation act of 1978, Public Law 95-541.

SUMMARY: The National Science Foundation (NSF) is required to publish notice of permit applications received to conduct activities regulated under the antarctic Conservation Act of 1978. NSF has published regulations under the Antarctic Conservation Act at Title 45 Part 670 of the Code of Federal Regulations. This is the required notice of permit applications received.

DATES: Interested parties are invited to submit written data, comments, or views with respect to this permit application by June 1, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2006-009.

1. Applicant: Samuel S. Bowser, Wadsworth Center, New York State, Department of health, P.O. Box 509, Albany, NY 12202-0509.

Activity for Which Permit is Requested: Introduce non-indigenous species into Antarctica. The applicant plans to use brine shrimp hatchings (Artemia sp.) as food for foraminiferan protests. Specimens of foraminifera will be incubated with Artemia for 24-48 hours in isolated culture chambers, and the number of prey captured by the foraminifera will be assessed by direct observation using a stereomicroscope. The purpose of the study is to determine the phylogenetic extent of metazoan carnivory by basal foraminiferan protests. The samples will be chemically sterilized before disposal with hazmat.

Location: Crary Science and Engineering Center, McMurdo Station, and Explorers Cove field camp, New Harbor.

Dates: October 1, 2005 to December 31, 2006.

Permit Application No. 2006-020.

2. Applicant: David Ainley, HT Harvey & Associates, 3150 Almaden Expressway, Suite 145, San Jose, CA 95118.

Activity for Which Permit is Requested: Enter Antarctic Specially Protected Area. The applicant plans to enter Cape Crozier (ASPA #124), Cape Royds (ASPA #121), Beaufort Island (ASPA #105), and Cape Bird to conduct studies of Adelie penguins. The applicant plans to capture up to 2,800 Adelie chicks, fledglings, and adults for weighing, measuring, tagging with RFID taps or flipper bands, applying and removing special instruments (TDRs, SPOT satellite tags, GLS tags) to study their foraging efforts and colony productivity. This is an international collaborative investigation of geographic structuring, founding of new colonies, and population change of Adelie penguins nesting on Ross Island and Beaufor Island.

Location: Cape Crozier (ASPA #123), Cape Royds (ASPA #121), Beaufort Island (ASPA #105), and Cape Bird.

Dates: November 1, 2005 to February 15, 2010.

Permit Application No. 2006-011.

3. Applicant: Thomas W. Yelvington, Raytheon Technical Services Company LLC, Polar Services, 7400 S. Tucson Way, Centennial CO 80112-3938.

Activity for Which Permit is Requested: Take. The applicant plans to hered, relocate or remove seals, penguins or other seabirds from station operational areas for the protection of the animals and safety of station personnel and equipment.

Location: Palmer Station, Anvers Island, Antarctic Peninsula.

Dates: May 1, 2005 to August 31, 2010.

Permit Application No. 2006-005.

4. Applicant: Rae Natalie Prosser Goodall, Sarmiento 44, 9410 Ushuaia, Tierra del Fuego, Argentina.

Activity for Which Permit is Requested: Take. The applicant plans to salvage bones of dead animals (seals, penguins, dolphins, whales or seabirds) opportunistically found on the beaches in the Antarctic Peninsula Region. Salvaged materials will be cleaned, numbered and deposited in a collection housed in the Museo Actushun de Aves y Mamiferos Marinos Australes at Harberton Station, Tierra del Fuego. The skeletons from Antarctic waters are especially useful in a comparison study with skeletal collections from southernmost South America. Specimens are also available to other scientists for study.

Location: Antarctic Peninsula, South Shetland Islands and adjacent islands.

Dates: October 1, 2005 to September 30, 2010.

Permit Application No. 2006-006.

5. Applicant: Thomas W. Yelvington, Raytheon Technical Services Company LLC, Polar Services, 7400 S. Tucson Way, Centennial, CO 80112-3938.

Activity for Which Permit is Requested: Enter Antarctica Specially Protected Area. The applicant plans to enter Cape Crozier (ASPA #124) to complete remediation of an old camp site that burned at the site years ago. Recent snow melt has revealed additional debris that needs to be removed. The applicant plans to remove the debris in early October to avoid the arrival of the penguins.

Location: Cape Crozier (ASPA #124).

Dates: October 1, 2005 to September 30, 2010.

Permit Application No. 2006-012.

6. Applicant: Thomas W. Yelvington, Raytheon Technical Services Company LLC, Polar Services, 7400 S. Tucson Way, Centennial, CO 80112-3938.

Activity for Which Permit is Requested: Enter Antarctic Specially Protected Area. The applicant plans to enter Cape Royds (ASPA #121) for the purpose of conducting an environmental audit of the Long Term Ecological Research Camp and project site near Pony Lake at Cape Royds. The audit process provides the necessary data for evaluating how closely management practices are being followed consistent with the Master Permit and that any existing mitigating measures listed in the Environmental Impact Assessment documents are implemented in the field.

Location: Cape Royds (ASPA #121).

Dates: October 1, 2005 to September 30, 2010.

Permit Application No. 2006-013.

7. Applicant: Douglas R. MacAyeal, Department of Geophysical Sciences, University of Chicago, 5734 S. Ellis Avenue, Chicago, IL 60637.

Activity for Which Permit is Requested: Enter Antarctic Specially Protected Area. The applicant currently operates an automatic “Web cam” on the cliff of iceberg B15k that looks down at the Beaufort Island Emperor penguin colony. The applicant proposes to enter Beaufort Island (ASPA #105) should the Web cam fall off its perch and needs recovery.

Location: Beaufort Island (ASPA #105).

Dates: October 15, 2005 to November 25, 2005.

Nadene G. Kennedy,
Permit Officer, Office of Polar Programs.

[FR Doc. 05-8689 Filed 4-29-05; 8:45 am]

BILLING CODE 7550-01-M